DEPARTMENT OF ENERGY

10 CFR Part 430

[EERE-2025-BT-DET-0005]

RIN 1904-AF75

Repeal of the Definition of Showerhead

AGENCY: Department of Energy.

ACTION: Final rule.

SUMMARY: As part of its implementation of an Executive order, the U.S. Department of Energy repeals the definition of a showerhead.

DATES: The effective date of this rule is May 15, 2025.

FOR FURTHER INFORMATION CONTACT: Appliance Standards Program, U.S. Department of Energy, Office of Energy Efficiency and Renewable Energy, Building Technologies Office, EE-5B, 1000 Independence Avenue SW, Washington, DC 20585-0121. Email: ApplianceStandardsQuestions@ee.doe.gov.

Mr. David Taggart, U.S. Department of Energy, Office of the General Counsel, GC-33, 1000 Independence Avenue SW, Washington, DC 20585. Telephone: (202) 586-5281. Email: David.Taggart@hq.doe.gov.

SUPPLEMENTARY INFORMATION:

I. Discussion

On April 9, 2025, President Donald J. Trump directed the Department of Energy to repeal the definition of “showerhead” codified at 10 CFR 430.2. See Executive order, Maintaining Acceptable Water Pressure in Showerheads. In compliance with that order, and the President's constitutional authority to direct rescissions of regulations, the Department hereby repeals the definition of showerhead in § 430.2. The agency's decision to rescind that provision is nondiscretionary.

The Executive order also directed the agency to proceed without notice and comment. In compliance with that directive, and because there is good cause to skip notice and comment in light of the nondiscretionary nature of the agency's duty, the agency is issuing this repeal without notice and comment.

Effective May 15, 2025, the statutory definition of showerhead in 42 U.S.C. 6291(31)(D) will control.

II. Authority

The authority for this rule is the Executive order titled Maintaining Acceptable Water Pressure in Showerheads (April 9, 2025), and the Energy Policy and Conservation Act, as amended, 42 U.S.C. 6291 et seq.

III. Procedural Issues and Regulatory Review

A. Review Under the Paperwork Reduction Act of 1995

Manufacturers of showerheads must certify to DOE that their products comply with any applicable energy conservation standards. To certify compliance, manufacturers must first obtain test data for their products according to DOE test procedures, including any amendments adopted for those test procedures. DOE has established regulations establishing certification and recordkeeping requirements for all covered consumer products and commercial equipment, including showerheads. (See generally 10 CFR part 429.) The information-gathering requirement for the certification and recordkeeping is subject to review and approval by the Office of Management and Budget (“OMB”) under the Paperwork Reduction Act (“PRA”). This requirement was approved by OMB under OMB control number 1910-1400. Public reporting burden for the certification is estimated to average 35 hours per response, including time for reviewing instructions, searching existing data sources, gathering and maintaining the data needed, and completing and reviewing the collection of information.

This final rule withdraws the current definition of showerhead. It does not amend the reporting requirement. Notwithstanding any other provision of the law, no person is required to respond to, nor shall any person be subject to a penalty for failure to comply with, a collection of information subject to the requirements of the PRA, unless that collection of information displays a currently valid OMB Control Number.

B. Review Under the National Environmental Policy Act of 1969

We are undertaking this revision because it is compelled by the President's Executive Order titled Maintaining Acceptable Water Pressure in Showerheads (April 9, 2025). As such, we believe that “the proposed agency action is a nondiscretionary action with respect to which such agency does not have authority to take environmental factors into consideration in determining whether to take the proposed action.” 42 U.S.C. 4336(a)(4); see Dep't of Transp. v. Pub. Citizen, 541 U.S. 752, 766-70 (2004).

Alternatively, pursuant to the National Environmental Policy Act (NEPA) of 1969, DOE has analyzed this final action in accordance with NEPA and DOE's NEPA implementing regulations (10 CFR part 1021). DOE has determined that this rule qualifies for categorical exclusion under 10 CFR part 1021, subpart D, appendix A5, because it is an interpretive rulemaking that does not change the environmental effect of the rule and meets the requirements for application of a categorical exclusion. See 10 CFR 1021.410. Therefore, DOE has determined that promulgation of this rule is not a major Federal action significantly affecting the quality of the human environment within the meaning of NEPA, and does not require an environmental assessment or an environmental impact statement. In this regard, we note that the two recent final rulemakings addressing this exact matter—the definition of “showerhead”—found that this categorical exclusion applied. See Energy Conservation Program: Definition of Showerhead, 86 FR 71797, 71809 (December 20, 2021); Energy Conservation Program: Definition of Showerhead, 85 FR 81341, 81357-81358 (December 16, 2020).

C. Review Under the Regulatory Flexibility Act

The Regulatory Flexibility Act (5 U.S.C. 601 et seq.) requires preparation of a final regulatory flexibility analysis for any final rule where the agency was first required by law to publish a proposed rule for public comment. Here, the agency was not required to seek public comment.

D. Review Under the Treasury and General Government Appropriations Act, 1999

Section 654 of the Treasury and General Government Appropriations Act, 1999 (Pub. L. 105-277) requires Federal agencies to issue a Family Policymaking Assessment for any rule that may affect family well-being. This rule will not have any impact on the autonomy or integrity of the family as an institution. Accordingly, it is not necessary to prepare a Family Policymaking Assessment.

E. Congressional Notification

As required by 5 U.S.C. 801, DOE will report to Congress on the promulgation of this rule before its effective date. The report will state that it has been determined that the rule is not a “major rule” as defined by 5 U.S.C. 804(2).

IV. Approval of the Office of the Secretary

The Secretary of Energy has approved publication of this final rule.

List of Subjects in 10 CFR Part 430

Administrative practice and procedure, Confidential business information, Energy conservation, Household appliances, Imports, Intergovernmental relations, Small businesses.

Signing Authority

This document of the Department of Energy was signed on April 11, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 11, 2025.
Treena V. Garrett,
Federal Register Liaison Officer, U.S. Department of Energy.

For the reasons set forth in the preamble, DOE amends part 430 of chapter II, subchapter D, of title 10 of the Code of Federal Regulations, as set forth below:

PART 430—ENERGY CONSERVATION PROGRAM FOR CONSUMER PRODUCTS

1. The authority citation for part 430 continues to read as follows:

Authority: 42 U.S.C. 6291-6309; 28 U.S.C. 2461 note.

§ 430.2 [Amended]

2. Amend § 430.2 by removing the definition of “Showerhead”.

[FR Doc. 2025-06476 Filed 4-11-25; 2:30 pm]

BILLING CODE 6450-01-P